DEPARTMENT OF LABOR

Employment and Training Administration

Notice of Determinations Regarding Eligibility to Apply for Worker Adjustment Assistance and NAFTA Transitional Adjustment Assistance

In accordance with Section 223 of the Trade Act of 1974, as amended, the Department of Labor herein presents summaries of determinations regarding eligibility to apply for trade adjustment assistance for workers (TA-W) issued during the period of May and June 2002.

In order for an affirmative determination to be made and a certification of eligibility to apply for worker adjustment assistance to be issued, each of the group eligibility requirements of Section 222 of the Act must be met.

(1) that a significant number or proportion of the workers in the workers' firm, or an appropriate subdivision thereof, have become totally or partially separated, (2) that sales or production, or both, of the firm or sub-division have decreased absolutely, and

(3) that increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-41,172; The Goodyear Tire and Rubber Co., Danville, VA

TA-W-41,176; Eastern Felt Co., Inc., Westerly, RI

TA-W-41,274; Azon Corp., Johnson City, NY

TA-W-41,468; Pacific Crest Lumber Co., Inc., Winlock, WA

TA-W-40,040; United Metal Fabricators, Johnstown, PA

In the following cases, the investigation revealed that the criteria for eligibility have not been met for the reasons specified.

The workers firm does not produce an article as required for certification under Section 222 of the Trade Act of 1974.

TA-W-41,496; Alcatel USA, Customer Service/ITAS, Plano, TX

TA-W-41,388; Fujitsu Network Communications, Inc., Raleigh, NC

TA-W-40,916; EDS, PA Solution Center, Camp Hills, PA

TA-W-40,923; Telecruz Technology, Inc., San Jose, CA

TA-W-41,295; Multax Systems, Inc., at The Boeing Co., Oak Ridge, TN

Increased imports did not contribute importantly to worker separations at the firm.

TA-W-40,880; Madill Corp., Eugene, OR

TA-W-41,028 & A; Anne Klein for Kasper ASL, Ltd, New York, NY and Kasper ASL Ltd, Secaucus, NJ

TA-W-41,348; S.D. Warren Co. d/b/a Sappi Fine Paper North America, Somerset Operations, Skowhegan, ME

TA-W-40,044; BMI Industries, Schaumburg, IL

TA-W-41,042; Partridge River, Inc., Hoyt Lakes, MN

TA-W-41,049; Hale Products, Inc., St. Joseph, TN

TA-W-41,105; Arlee Home Fashions, Leachville, AR

TA-W-40,932; Allegro Micro Systems, Inc., Willow Grove, PA

TA--W-41,300; L and A Molding Corp., Lewiston, ME

TA--W-41,022; DT Magnetics, Inc., Knightdale, NC

TA-W-41,386; Ericsson, Inc., Lynchburg, VA

TA-W-41,073; Vishay Dale Electronics, Film Div., Norfolk, NE: “All workers producing thin film products and E-Rel products are denied eligibility to apply for adjustment assistance.

Affirmative Determinations for Worker Adjustment Assistance

The following certifications have been issued; the date following the company name and location of each determination references the impact date for all workers of such determination.

TA-W-41,170; Hoskins Manufacturing Co., Hamburg Plant, Hamburg, MI: November 29, 2000.

TA-W-41,545; Multi Products, Inc., Tool Room Div., Erie, PA: May 6, 2001.

TA-W-39,291; Emerson Electric Co., White-Rodgers Div., Affton, MO: April 11, 2000.

TA-W-39,998; Cook Technologies, Inc., Green Lane, PA: August 23, 2000.

TA-W-40,731; Fulflex of Virginia, Stuart, VA: December 10, 2000.

TA-W-40,861; Master Design Furniture, Eupora, MS: February 6, 2001.

TA-W-40,917; Hunter Sadler, Tupelo, MS: September 29, 2001.

TA-W-41,015 & A; E.J. Footwear LLC, Franklin, TN and Endicott, NY: February 14, 2001.

TA-W-39,084; Consolidated Auto Screen, Woonsocket, RI: April 4, 2000.

TA-W-41,151 & A; Bernard Chaus, Inc., Secaucus, NJ and New York, NY: February 7, 2001.

TA-W-41,159; Renfro Corp., Star Plant, Star, NC: January 30, 2001.

TA-W-41,184; Xerox Corp., Electronics Delivery Unit, El Segundo, CA: February 26, 2001.

TA-W-41,187; Flowline Div., Markovitz Enterprises, Inc., New Castle, PA: February 18, 2001.

TA-W-41,217; Scotty Fashions Cutting, Pen Argyl, PA: March 14, 2001.

TA-W-41,218; Scotty Fashions #1, Little Gap, PA: March 14, 2001.

TA-W-41,270; Devil Dog Manufacturing Co., A Div. Of General Sportswear Co., Inc., Zebulon, NC: March 5, 2001.

TA-W-41,280; Pat and Rose Dress, Inc., New York, NY: March 6, 2001.

TA-W-41,073; Vishay Dale Electronics, Film Div., Norfolk, NE: February 7, 2001. “All workers engaged in the production of thick film military chips are eligible to apply for adjustment assistance under Section 223 of the Trade Act of 1974.”.

TA-W-41,092; Standard Gage Div., Brown and Sharpe, Inc., Poughkeepsie, NY: January 11, 2001.

TA-W-41,113; American Fine Wire Corp., Div. Of Kulicke and Soffa Industries, Selma, AL: February 22, 2001

TA-W-41,031; Great American Knitting Mills, Inc., Bally, PA: April 18, 2002.

TA-W-41,282; Precision Technologies, Inc., Franklin, PA: March 1, 2001.

TA-W-41,291; Braden Manufacturing, LLC, Fort Smith, AR: March 25, 2001.

TA-W-41,314; Schneider Mills, Inc., Alexander Mills, Plant, Forest City, NC: April 24, 2001.

TA-W-41,483; Acorn Products Co., Inc., Lewiston, ME: July 24, 2001.

TA-W-41,489; Goss and Deleeuw Machine Co., Inc., Kensington, CT: April 25, 2001.

Also, pursuant to Title V of the North American Free Trade Agreement Implementation Act (P.L. 103-182) concerning transitional adjustment assistance hereinafter called (NAFTA-TAA) and in accordance with Section 250(a), Subchaper D, Chapter 2, Title II, of the Trade Act as amended, the Department of Labor presents summaries of determinations regarding eligibility to apply for NAFTA-TAA issued during the month of May and June, 2002.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increased imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05513; Cook Technologies, Inc., Green Lane, PA

NAFTA-TAA-05551; Froedtert Malting, A Div. Of International Malting Co., LLC, Milwaukee, WI

NAFTA-TAA-05845; Hale Products, Inc., St. Joseph, TN

NAFTA-TAA-06002; Burlington Chemical Co., Burlington, NC

NAFTA-TAA-06007; Schneider Mills, Alexander Mills Plant, Forest City, NC

NAFTA-TAA-06029; T and T Land and Timber, Inc., Rexford, MT

NAFTA-TAA-06087; International Paper, Corinth, NY

NAFTA-TAA-06067; Ericsson, Inc., Lynchburg, VA

NAFTA-TAA-06100; Pacific Crest Lumber Co., Inc., Winlock, WA

The investigation revealed that the criteria for eligibility have not been met for the reasons specified.

The investigation revealed that workers of the subject firm did not produce an article within the meaning of Section 250(a) of the Trade Act, as amended.

NAFTA-TAA-06092; Levcor International, New York, NY

The investigation revealed that criteria (1) has not been met. A significant number or proportion of the workers in such workers' firm or an appropriate subdivision (including workers in any agricultural firm or appropriate sub-division thereof) did not become totally or partially separated from employment.

NAFTA-TAA-05606; Cooper-Standard Automotive, Fairview Manufacturing Facility, Fairview, MI

Affirmative Determinations NAFTA-TAA

NAFTA-TAA-06094; L.G. Philips Displays, Ottawa, OH: April 3, 2001.

NAFTA-TAA-06140; Louisville Ladder Group LLC, Louisville, KY: April 18, 2001.

NAFTA-TAA-05707; Hunter Sadler, Tupelo, MS: September 29, 2001.

I hereby certify that the aforementioned determinations were issued during the month of May and June, 2002. Copies of these determinations are available for inspection in Room C-5311, U.S. Department of Labor, 200 Constitution Avenue, NW., Washington, DC 20210 during normal business hours or will be mailed to persons who write to the above address.

Dated: June 13, 2002.
Edward A. Tomchick,
Director, Division of Trade, Adjustment Assistance.

[FR Doc. 02-15752 Filed 6-20-02; 8:45 am]

BILLING CODE 4510-30-P